DEPARTMENT OF HEALTH AND HUMAN SERVICES

Centers for Disease Control and Prevention

[30 DAY-38-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Preventive Health and Health Services Block Grant, Annual Application and Reports (0920-0106)—Extension—The Centers for Disease Control and Prevention (CDC), National Center for Chronic Disease Prevention and Health Promotion—In 1997, the Office of Management and Budget approved the collection of information provided in the grant applications and annual reports for the Preventive Health and Health Services Block Grant (0920-0106). This approval expires on November 30, 2000. CDC is requesting an extension of OMB clearance for this legislatively mandated information collection until November 30, 2001. The extension is limited to one year to allow for the development and adherence to Healthy People 2010 to be released the Spring of 2000. The Preventive Health and Health Services Block Grant is mandated according to section 1904 to adhere to the Healthy People framework, therefore, the current application and report format will be restructured to coincide with 2010 and resubmitted for OMB clearance at that time.

This information collected through the applications from the official State health agencies is required from section 1905 of the Public Health Service Act. There is no change in the proposed information collection from previous years. The information collected from the annual reports is required by section 1906, specifically the requirement for uniform data sets matching the uses of funds. The total estimated annual burden is 5490 hours.

Respondents | No. of respondents | No. of responses/ respondent | Average burden per response (in hrs.) | Total burden
Application | 61 | 1 | 30 | 1830
Report | 61 | 1 | 60 | 3660
Total |  |  |  | 5490

Dated: May 25, 2000.
Charles W. Gollmar,
Acting Associate Director for Policy, Planning and Evaluation, Centers for Disease Control and Prevention (CDC).

[FR Doc. 00-13651 Filed 5-31-00; 8:45 am]

BILLING CODE 4163-18-P